DEPARTMENT OF EDUCATION

Office of Special Education and Rehabilitative Services; Overview Information; Technical Assistance and Dissemination To Improve Services and Results for Children With Disabilities—Model Demonstration Centers on Implementing Tertiary Level Behavioral Interventions Within a School-Wide Model for Children Who Are Not Responsive to Universal and Secondary Level Interventions; Notice Inviting Applications for New Awards for Fiscal Year (FY) 2006

Catalog of Federal Domestic Assistance (CFDA) Number: 84.326M.

Dates: Applications Available: March 2, 2006.

Deadline for Transmittal of Applications: April 17, 2006.

Deadline for Intergovernmental Review: June 16, 2006.

Eligible Applicants: Institutions of higher education (IHEs).

Estimated Available Funds: $1,200,000.

Estimated Average Size of Award: $400,000.

Maximum Award: We will reject any application that proposes a budget exceeding $400,000 for a single budget period of 12 months. The Assistant Secretary for Special Education and Rehabilitative Services may change the maximum amount through a notice published in the Federal Register.

Estimated Number of Awards: 3.

Note: The Department is not bound by any estimates in this notice.

Project Period: Up to 48 months.

Full Text of Announcement

I. Funding Opportunity Description

Purpose of Program: This program promotes academic achievement and improves results for children with disabilities by supporting technical assistance, model demonstration projects, dissemination of useful information, and implementation activities that are supported by scientifically based research.

Priority: In accordance with 34 CFR 75.105(b)(2)(v), this priority is from allowable activities specified in the statute (see sections 663 and 681(d) of the Individuals with Disabilities Education Act (IDEA)).

Absolute Priority: For FY 2006 this priority is an absolute priority. Under 34 CFR 75.105(c)(3), we consider only applications that meet this priority.

This priority is: Model Demonstration Centers on Implementing Tertiary Level Behavioral Interventions within a School-Wide Model for Children who are Not Responsive to Universal and Secondary Level Interventions.

Background

During the last several years, increased attention and an emerging research base have focused on a response to intervention model that identifies and addresses the needs of children who do not respond sufficiently to high quality class-wide academic instruction and remedial evidence-based interventions. This response to intervention model, while gaining attention with respect to students experiencing academic challenges, is also applicable to students experiencing behavioral challenges. Despite high quality class-wide behavioral strategies and remedial interventions, some children with behavioral challenges fail to make sufficient progress and require more individualized and intensive supports to be successful in their educational program.

The school setting is one of the most important settings for behavioral prevention and intervention programs and has been described as the ideal setting for these programs due to compulsory attendance and sustained contact with youth during the early years of development (Loeber & Farrington, 1998, Walker and Shinn, 2002). School-wide behavioral programs have received increased attention since the 1997 amendments to IDEA introduced the concept of “positive behavioral interventions and supports.” The three-tiered prevention model, originally adapted from mental health literature, has emerged as the prevailing model for school-wide implementation of behavioral prevention and intervention programs. Components of the model include: (1) Universal interventions for all students; (2) secondary interventions for smaller groups of students who may require some additional remedial interventions in order to be successful in their educational program; and (3) tertiary level interventions for those students who, despite a high quality universal program and subsequent evidence-based secondary interventions, fail to make substantial progress without the implementation of individualized, intensive interventions. Assessment of progress throughout the multi-level tiers of support is based on a student's response to interventions.

Currently, approximately one percent of all children who receive services under IDEA are children with emotional disturbances (ED). Students with ED are identified later than students with other disabilities, with the earliest identifications generally occurring at age nine (National Longitudinal Transition Study of Youth II). With evidence documenting the reduced effects of interventions that are implemented after antisocial and aggressive behaviors have persisted, early intervention is critical to mitigate and possibly reverse these negative behavioral trajectories (Webster-Stratton & Hammond, 1997 and Campbell, 1995). Young children who demonstrate significant, intractable, behavioral challenges and who do not respond sufficiently to universal or secondary interventions will need comprehensive tertiary level interventions to prevent extremely bleak outcomes both for the individual and society as a whole (Sprague, et al., 2001).

In the 1987 National Longitudinal Transition Study of Youth, students with ED had the poorest outcomes of all students with disabilities. Unfortunately, these outcomes persisted in a follow-up study conducted ten years later (SRI, 2004). Negative outcomes included: Poor grades, dropping out, arrest, teenage pregnancy, and unemployment. Students with ED, in spite of their average to above average intelligence, are significantly more likely than students without ED to experience academic problems. These academic problems may become more significant for children who do not respond to universal efforts and secondary interventions and, due to their behavior problems, these children are frequently removed from instructional environments. For these students with intractable behavioral challenges, tertiary level interventions are critical to enable them to participate in the educational system.

Tertiary interventions are designed to focus on the needs of individuals who exhibit patterns of significant problem behavior that is dangerous or highly disruptive, impedes learning, or results in social or educational exclusion. Tertiary interventions are most effective when they are nested within a multi-tiered school-wide model. The goal of tertiary interventions is to diminish problem behavior and to increase the student's adaptive skills, access to instruction, and opportunities for an enhanced quality of life. Due to the complexity and intensity of behaviors targeted for intervention at this level and based on the individualized nature of the interventions implemented, a functional behavior assessment (FBA) is a necessary tool to assist educators in determining the most appropriate interventions designed to meet the student's specific needs.

An FBA is an evidence-based method of assessment that uses direct observation to develop hypothesis statements for behavior support plans and uses a comprehensive approach to identify antecedents and consequences that will help control problem behavior and to develop appropriate interventions (Horner, 1994). It provides data regarding the student's behavior and potential intervention strategies and assists educators in focusing on modifications that can be made to the environment to effect change in the student (Crone, Horner, & Hawken, 2004). Behavioral interventions based on FBAs are also three times more likely than those not based on FBAs to be effective in reducing problem behaviors and encouraging more appropriate behaviors (Carr, Turnbull, et al., 2001). Implementation of interventions that are effective in reducing problem behaviors likely will increase the student's exposure to instructional environments and result in improved achievement and more positive life outcomes.

Priority

The purpose of this priority is to support three (3) centers, each of which is to develop a behavioral model that incorporates scientific evidence-based, tertiary level interventions within a school-wide behavior model for students in elementary and middle school, in regular and special education classrooms. Each Center's model must apply and test research findings in typical settings where children with disabilities receive services to determine the services' usefulness, effectiveness, and general applicability to these typical settings. To meet this priority, a Center must design and implement a model that: (1) Targets the group of children who have not been responsive to universal behavioral strategies or secondary evidence-based interventions that have been shown to be effective based on scientific research and who require intensive and individualized behavioral interventions at the tertiary level; (2) is based on evidence-based practices, strategies, and interventions; (3) includes a process for the collection, analysis, and use of data for decision making; and (4) includes a professional development strategy. A Center's model must have the same critical components across different school levels but these components may be implemented slightly differently based on the age of the students.

Each Center must establish its model in at least three sites. A site must consist of, at a minimum, one elementary school and one middle school, and may include a pre-school or high school setting.

In order to be considered for funding under this priority, an IHE must demonstrate that the key staff responsible for implementing the model have expertise in the full continuum of school-wide behavioral interventions—universal, secondary, and tertiary—which may be demonstrated by having refereed publications on this topic or federally supported grants addressing this area. Key staff must also have demonstrated success implementing behavioral interventions and models in typical settings. In addition, the IHE must establish a partnership with a local educational agency (LEA) to facilitate the implementation of the model in school settings and increase the likelihood that school personnel will develop sufficient expertise in order to sustain the model after project completion.

Each Center must coordinate with the Model Demonstration Coordination Center (MDCC), a separate center funded by the Department's Office of Special Education Programs (OSEP) that is responsible for coordinating implementation and analyzing data to determine the effectiveness of the tertiary level intervention models. In 2005, OSEP awarded funds, through a contract, for the establishment of the MDCC. The MDCC is developing a data coordination plan and cross site data collection instruments, and will generate common evaluation questions, synthesize and analyze data collection, monitor fidelity of implementation, ensure reliability of data, and foster dissemination of information.

The start date for the projects funded under this competition is expected to be January 1, 2007. A meeting of all Centers funded under this priority as well as the MDCC will be held one month after the awards are made. The purpose of this meeting is to review and, as necessary, modify proposals and discuss collaboration among the Centers and the MDCC.

An applicant must describe, in its application—

(a) The sites where the model will be implemented and the methods used to recruit and select sites, including documentation of the implementation and fidelity of evidence-based universal and secondary practices and interventions and a reliable, effective process for determining which students have not responded to universal and secondary interventions and therefore require tertiary level interventions;

(b) The proposed model and the supporting evidence for the model as a whole or for the critical components that are included within the model; and

(c) The knowledge, experience, and capabilities of the key staff who will be responsible for the implementation of tertiary level interventions and the model.

To meet the requirements of this priority, each Center, at a minimum, must—

(1) Implement a model and a data collection plan that includes: a selection or screening procedure for children who are not responsive to universal or secondary level interventions, a method for linking interventions to problem behaviors, a detailed description of critical elements of the model, a process for collecting, evaluating and formulating decisions based on individual student and systems (i.e., class, school, district) data, and a description of the system variables required to implement and sustain the model;

(2) Provide and document initial and continuing professional development to administrators, regular educators, and special educators on the use of tertiary level interventions nested within a school-wide behavior model;

(3) Collect data related to the fidelity of the implementation of the model and describe the methods of fidelity evaluation, as well as how these methods relate to continuing professional development and feedback provided to teachers and administrators;

(4) Identify methods for effectively increasing communication and collaboration among parents, community agencies, and school/Center staff;

(5) Collaborate with the other Centers funded under this competition and the MDCC in order to determine a plan for evaluating the impact of these models on children's behavior and academic progress and outcomes;

(6) Develop regular communication with OSEP's National Center on Positive Behavioral Supports and OSEP's other funded centers, as appropriate, to share information regarding topics such as successful strategies and less successful approaches for implementing behavioral interventions in schools;

(7) Develop strategies for the dissemination of implementation information, if the model proves to be successful, to specific audiences, including teachers, families, administrators, policymakers, and researchers. These dissemination strategies must involve collaboration with other technical assistance providers including parent centers funded by OSEP, organizations, and researchers;

(8) Prior to developing any new product, whether paper or electronic, submit for approval a proposal describing the content and purpose of the product to the Project Officer to be designated by OSEP and the document review board of OSEP's Dissemination Center;

(9) Budget for the Center's project director to attend a three-day Project Directors' meeting in Washington, DC during each year of the project; and

(10) If a Web site is maintained, format the information and documents on the Web site in a manner that meets a government or industry-recognized standard for accessibility.

Waiver of Proposed Rulemaking: Under the Administrative Procedure Act (APA) (5 U.S.C. 553), the Department generally offers interested parties the opportunity to comment on a proposed priority. However, section 681(d) of IDEA makes the public comment requirements under the APA inapplicable to the priority in this notice.

Program Authority: 20 U.S.C. 1463 and 1481(d).

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

II. Award Information

Type of Award: Cooperative agreement.

Estimated Available Funds: $1,200,000.

Estimated Average Size of Award: $400,000.

Maximum Award: We will reject any application that proposes a budget exceeding $400,000 for a single budget period of 12 months. The Assistant Secretary for Special Education and Rehabilitative Services may change the maximum amount through a notice published in the Federal Register.

Estimated Number of Awards: 3.

Note: The Department is not bound by any estimates in this notice.

Project Period: Up to 48 months.

III. Eligibility Information

1. Eligible Applicants: IHEs.

2. Cost Sharing or Matching: This competition does not involve cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA Number 84.326M.

Individuals with disabilities may obtain a copy of the application package in an alternative format (e.g., Braille, large print, audiotape, or computer diskette) by contacting the Grants and Contracts Services Team listed under FOR FURTHER INFORMATION CONTACT in section VII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 70 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; the one-page abstract, the resumes, the bibliography, the references, or the letters of support. However, you must include all of the application narrative in Part III.

We will reject your application if—

• You apply these standards and exceed the page limit; or

• You apply other standards and exceed the equivalent of the page limit.

3. Submission Dates and Times: Applications Available: March 2, 2006.

Deadline for Transmittal of Applications: April 17, 2006.

Applications for grants under this competition may be submitted electronically using the Grants.gov Apply site (Grants.gov), or in paper format by mail or hand delivery. For information (including dates and times) about how to submit your application electronically, or by mail or hand delivery, please refer to section IV. 6. Other Submission Requirements in this notice.

We do not consider an application that does not comply with the deadline requirements.

Deadline for Intergovernmental Review: June 16, 2006.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications. We have been accepting applications electronically through the Department's e-Application system since FY 2000. In order to expand on those efforts and comply with the President's Management Agenda, we are continuing to participate as a partner in the new government wide Grants.gov Apply site in FY 2006. The Model Demonstration Centers on Implementing Tertiary Level Behavioral Interventions within a School-Wide Model for Children who are Not Responsive to Universal and Secondary Level Interventions—CFDA Number 84.326M is one of the competitions included in this project. We request your participation in Grants.gov.

If you choose to submit your application electronically, you must use the Grants.gov Apply site at http://www.Grants.gov. Through this site, you will be able to download a copy of the application package, complete it offline, and then upload and submit your application. You may not e-mail an electronic copy of a grant application to us.

You may access the electronic grant application for The Model Demonstration Centers on Implementing Tertiary Level Behavioral Interventions within a School-Wide Model for Children who are Not Responsive to Universal and Secondary Level Interventions at: http://www.grants.gov. You must search for the downloadable application package for this program by the CFDA number. Do not include the CFDA number's alpha suffix in your search.

Please note the following:

• Your participation in Grants.gov is voluntary.

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all of the steps in the Grants.gov registration process (see http://www.Grants.gov/GetStarted). These steps include (1) registering your organization, (2) registering yourself as an Authorized Organization Representative (AOR), and (3) getting authorized as an AOR by your organization. Details on these steps are outlined in the Grants.gov 3-Step Registration Guide (see http://www.grants.gov/assets/GrantsgovCoBrandBrochure8X11.pdf). You also must provide on your application the same D-U-N-S Number used with this registration. Please note that the registration process may take five or more business days to complete, and you must have completed all registration steps to allow you to successfully submit an application via Grants.gov.

• You will not receive additional point value because you submit your application in electronic format, nor will we penalize you if you submit your application in paper format.

• You may submit all documents electronically, including all information typically included on the Application for Federal Education Assistance (ED 424), Budget Information—Non-Construction Programs (ED 524), and all necessary assurances and certifications. If you choose to submit your application electronically, you must attach any narrative sections of your application as files in a .DOC (document), .RTF (rich text), or .PDF (Portable Document) format. If you upload a file type other than the three file types specified above or submit a password protected file, we will not review that material.

• Your electronic application must comply with any page limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of System Unavailability

If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under FOR FURTHER INFORMATION CONTACT, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to fully register to submit your application to Grants.gov before the deadline date and time or if the technical problem you experienced is unrelated to the Grants.gov system.

b. Submission of Paper Applications by Mail. If you submit your application in paper format by mail (through the U.S. Postal Service or a commercial carrier), you must mail the original and two copies of your application, on or before the application deadline date, to the Department at the applicable following address:

By mail through the U.S. Postal Service: U.S. Department of Education, Application Control Center, Attention: (CFDA Number 84.326M), 400 Maryland Avenue, SW., Washington, DC 20202-4260; or

By mail through a commercial carrier: U.S. Department of Education, Application Control Center—Stop 4260, Attention: (CFDA Number 84.326M), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you submit your application in paper format by hand delivery, you (or a courier service) must deliver the original and two copies of your application by hand, on or before the application deadline date, to the Department at the following address: U.S. Department of Education, Application Control Center, Attention: (CFDA Number 84.326M), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 4 of ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The selection criteria for this competition are from 34 CFR 75.210 and are listed in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act (GPRA), the Department has developed measures that will yield information on various aspects of the Technical Assistance and Dissemination to Improve Services and Results for Children with Disabilities program. These measures focus on: The extent to which projects provide high quality products and services, the relevance of project products and services to educational and early intervention policy and practice, and the use of products and services to improve educational and early intervention policy and practice.

We will notify grantees if they will be required to provide any information related to these measures.

Grantees will also be required to report information on their projects' performance in annual reports to the Department (34 CFR 75.590).

VII. Agency Contact

For Further Information Contact: Renee Bradley, U.S. Department of Education, 400 Maryland Avenue, SW., room 4105, Potomac Center Plaza, Washington, DC 20202-2550. Telephone: (202) 245-7277.

If you use a telecommunications device for the deaf (TDD), you may call the Federal Relay Service (FRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: February 27, 2006.
John H. Hager,
Assistant Secretary for Special Education and Rehabilitative Services.

[FR Doc. E6-3012 Filed 3-1-06; 8:45 am]

BILLING CODE 4000-01-P